DEPARTMENT OF THE INTERIOR

Fish and Wildlife Service

Habitat Conservation Plan for Chevron's North American Exploration and Production Unit in the Lokern Area of the Southern San Joaquin Valley, Kern County, CA

AGENCY: Fish and Wildlife Service, Interior.

ACTION: Notice of intent to prepare an environmental impact statement (EIS) and notice of public meetings.

SUMMARY: Pursuant to the National Environmental Policy Act (NEPA), we, the Fish and Wildlife Service (Service), advise the public that we intend to gather information necessary to prepare, in coordination with the California Department of Fish and Game (DFG), and Kern County, a joint Environmental Impact Statement/Environmental Impact Report (EIS/EIR) on the Chevron Lokern Habitat Conservation Plan (HCP). The HCP is being prepared under Section 10(a)(1)(B) of the Federal Endangered Species Act of 1973, as amended, (Act). Chevron intends to apply for a 50-year incidental take permit from the Service. The permit is needed to authorize the incidental take of threatened and endangered species that could result from oil and gas development and operation activities covered under the HCP.

We provide this notice to: (1) Describe the proposed action and possible alternatives; (2) advise other Federal and State agencies, affected Tribes, and the public of our intent to prepare an EIS/EIR; (3) announce the initiation of a public scoping period; and (4) obtain suggestions and information on the scope of issues and alternatives to be included in the EIS/EIR.

DATES: Submit written comments on or before December 26, 2007. One public meeting will be held on: Thursday, November 29, 2007, from 4 p.m. to 6 p.m.

ADDRESSES: The public meeting will be held at Kern County Public Services Building, Room 1A, 2700 M Street, Bakersfield, CA 93301. Submit written comments to Lori Rinek, Chief, Conservation Planning and Recovery Division, U.S. Fish and Wildlife Service, Sacramento Fish and Wildlife Office, 2800 Cottage Way, W-2605, Sacramento, CA 95825. Comments may also be sent by facsimile to 916-414-6713.

FOR FURTHER INFORMATION CONTACT: Lori Rinek, Chief, Conservation Planning and Recovery Division, Sacramento Fish and Wildlife Office at (916) 414-6600.

SUPPLEMENTARY INFORMATION:

Reasonable Accommodation

Persons needing reasonable accommodations in order to attend and participate in the public meeting should contact Lori Rinek at (916) 414-6600 as soon as possible. In order to allow sufficient time to process requests, please call no later than one week before the public meeting. Information regarding this proposed action is available in alternative formats upon request.

Background

Section 9 of the Act and Federal regulations prohibit the “take” of wildlife species listed as endangered or threatened (16 U.S.C. 1538). The Act defines the term “take” as: To harass, harm, pursue, hunt, shoot, wound, kill, trap, capture or collect listed species, or to attempt to engage in such conduct (16 U.S.C. 1532). Harm includes significant habitat modification or degradation that actually kills or injures listed wildlife by significantly impairing essential behavioral patterns, including breeding, feeding, and sheltering [50 CFR 17.3(c)]. Pursuant to section 10(a)(1)(B) of the Act, we may issue permits to authorize “incidental take” of listed species. “Incidental take” is defined by the Act as take that is incidental to, and not the purpose of, carrying out an otherwise lawful activity. Regulations governing permits for threatened species and endangered species, respectively, are at 50 CFR 17.32 and 50 CFR 17.22.

Take of listed plant species is not prohibited under the Act and cannot be authorized under a section 10 permit. We propose to include plant species on the permit in recognition of the conservation benefits provided for them under a habitat conservation plan. All species included on the permit would receive assurances under the Service's “No Surprises” regulations found in 50 CFR 17.22(b)(5) and 17.32(b)(5).

Species proposed for coverage in the HCP are species that are currently listed as federally threatened or endangered or have the potential to become listed during the life of this HCP and have some likelihood to occur within the project area. Should any of these unlisted covered wildlife species become listed under the Act during the term of the permit, take authorization for those species would become effective upon listing. Six plant species and 11 animal species would be covered by the HCP. Species may be added or deleted during the course of the development of the HCP based on further analysis, new information, agency consultation, and public comment. Currently the following listed plant and animal species are included within the plan: Giant kangaroo rat (Dipodomys ingens), Tipton kangaroo rat (Dipodomys nitratoides nitratoides), blunt-nosed leopard lizard (Gambelia sila), San Joaquin kit fox (Vulpes macrotis mutica), California jewelflower (Caulanthus californicus), Kern mallow (Eremalche kernensis), and San Joaquin woolly-threads (Monolopia congdonii). Unlisted species proposed as covered species are the following: San Joaquin antelope squirrel (Ammospermophilus nelsoni), Western burrowing owl (Athene cunicularia hypugea), short-nosed kangaroo rat (Dipodomys nitratoides brevinasus), loggerhead shrike (Lanius ludovicianus), California horned lizard (Phrynosoma coronatum frontale), American badger (Taxidea taxus), Le Conte's thrasher (Toxostoma lecontei), heartscale (Atriplex cordulata), Lost Hills crownscale (Atriplex vallicola), and Hoover's woolly-star (Eriastrum hooveri).

The HCP area includes both a permit area and credit area. The permit area consists of those lands where Chevron's covered activities would occur. The permit area is subdivided into three subsections including (a) 13,333 acres of Chevron owned lands (Chevron Lokern Lands) in western Kern County; (b) 239,207 acres encompassing and surrounding five active oil and gas fields (Five Fields—Buena Vista, Cymric-McKittrick, Kern River, Lost Hills, Midway Sunset) in central and western Kern County; and (c) 14,441 acres adjacent to the Lokern area (Lokern Contiguous Area) in western Kern County. Chevron proposes to mitigate for impacts to covered species that occur on permit lands within the mitigation bank to be established on Chevron Lokern Lands. Additionally, Chevron proposes to sell unused mitigation credits to other parties for their separately approved projects within the credit area, which encompasses approximately 3,100 square miles in central and western Kern County, as well as a small portion of southwestern Kings County.

The HCP would result in take authorization for otherwise lawful actions, such as public and private development that may incidentally take or harm animal species or their habitats within the HCP area, and the formation and management of a conservation program for covered species. Activities that may be covered under the HCP within the permit area include: Oil and gas exploration and development; emergency response; livestock grazing; recreational and educational activities; and scientific research. In addition, all existing activities on developed lands would be authorized as permitted activities within the HCP permit area. However, the aforementioned permitted activities would not be authorized within the credit area. Under the HCP, the effects on covered species from the permitted activities are expected to be minimized and mitigated through participation in a conservation program. This conservation program would focus on providing long-term protection of covered species by protecting biological communities in the HCP area.

Components of this conservation program are now under consideration by the Service and Kern County. These components would likely include: Avoidance and minimization measures, monitoring, adaptive management, and mitigation measures consisting of preservation, restoration, and enhancement of habitat.

Environmental Impact Statement/Report

The EIR/EIS will consider the proposed action (i.e., the issuance of a section 10a(1)(B) permit under the Act), no action (no project/no section 10 permit), and a reasonable range of alternatives. A detailed description of the proposed action and alternatives will be included in the EIR/EIS. The alternatives to be considered for analysis in the EIR/EIS may include: Modified lists of covered species, land coverage areas, and intensity of development. The EIR/EIS will also identify potentially significant impacts on biological resources, land use, air quality, water quality, water resources, economics, and other environmental resource issues that could occur directly or indirectly with implementation of the proposed action and alternatives. Different strategies for avoiding, minimizing, and mitigating the impacts of incidental take may also be considered.

Environmental review of the EIR/EIS will be conducted in accordance with the requirements of NEPA (42 U.S.C. 4321, et seq.), its implementing regulations (40 CFR parts 1500-1508), other applicable regulations, and Service procedures for compliance with those regulations. This notice is being furnished in accordance with 40 CFR Section 1501.7 and 1508.22 to obtain suggestions and information from other agencies and the public on the scope of issues and alternatives to be addressed in the EIR/EIS. The primary purpose of the scoping process is to identify important issues raised by the public related to the proposed action. Written comments from interested parties are invited to ensure that the full range of issues related to the permit application is identified. Comments will only be accepted in written form. You may submit written comments by mail, facsimile transmission, or in person (see ADDRESSES). All comments received, including names and addresses, will become part of the official administrative record and may be made available to the public.

Our practice is to make comments, including names, home addresses, home phone numbers, and e-mail addresses of respondents, available for public review. Individual respondents may request that we withhold their names and/or home addresses, etc., but if you wish us to consider withholding this information you must state this prominently at the beginning of your comments. In addition, you must present a rationale for withholding this information. This rationale must demonstrate that disclosure would constitute a clearly unwarranted invasion of privacy. Unsupported assertions will not meet this burden. In the absence of exceptional, documentable circumstances, this information will be released. We will always make submissions from organizations or businesses, and from individuals identifying themselves as representatives of or officials of organizations or businesses, available for public inspection in their entirety.

Dated: November 19, 2007.
Ken McDermond,
Deputy Manager, California/Nevada Operations Office, Sacramento, California.

[FR Doc. E7-22934 Filed 11-23-07; 8:45 am]

BILLING CODE 4310-55-P